FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than December 4, 2006.

A. Federal Reserve Bank of Atlanta (Andre Anderson, Vice President) 1000 Peachtree Street, N.E., Atlanta, Georgia 30309:

1. Reserve Financial Associates, LLC, Columbus, Ohio, Sofia Financial Associates, LLC, and Skilken Financial Associates, LLC, all of Columbus, Ohio; to become bank holding companies by acquiring 100 percent of the voting shares of Business Bank of Florida Corp., and thereby indirectly acquire voting shares of Florida Business Bank, both of Melbourne, Florida.

B. Federal Reserve Bank of Minneapolis (Jacqueline G. King, Community Affairs Officer) 90 Hennepin Avenue, Minneapolis, Minnesota 55480-0291:

1. Franklin Bancorp, Inc., and d/b/a Sunrise Community Banks; to merge with University Financial Corp., and thereby indirectly acquire University National Bank, all of St. Paul, Minnesota.

C. Federal Reserve Bank of Kansas City (Donna J. Ward, Assistant Vice President) 925 Grand Avenue, Kansas City, Missouri 64198-0001:

1. Community Bancshares of Kansas, Inc., Goff, Kansas; to become a bank holding company by acquiring 100 percent of the voting shares of Nemaha Investment Company, Inc., Merriam, Kansas, and thereby indirectly acquire First State Bank of Goff, Goff, Kansas.

2. Ironhorse Financial Group, Inc.; to become a bank holding company by acquiring 100 percent of the voting shares of Republic Bank & Trust, both of Norman, Oklahoma.

3. Ironhorse Financial Group, Inc., Norman, Oklahoma; to acquire 100 percent of the voting shares of Armstrong Bancshares, Inc., and thereby indirectly acquire voting shares of Armstrong Bank, both of Muskogee, Oklahoma.

D. Federal Reserve Bank of Dallas (W. Arthur Tribble, Vice President) 2200 North Pearl Street, Dallas, Texas 75201-2272:

1. BT Holdings, Inc., Quitman, Texas; to become a bank holding company by acquiring 100 percent of the voting shares of Quitman Bancorporation, Inc., Quitman, Texas, and thereby indirectly acquire voting shares of Quitman Bancorporation of Delaware, Inc., Wilmington, Delaware, and Bank Texas, National Association, Quitman, Texas.

Board of Governors of the Federal Reserve System, November 3, 2006.
Robert deV. Frierson,
Deputy Secretary of the Board.

[FR Doc. E6-18824 Filed 11-7-06; 8:45 am]

BILLING CODE 6210-01-S